DEPARTMENT OF HOMELAND SECURITY

Federal Emergency Management Agency

[Docket ID FEMA-2013-0002; Internal Agency Docket No. FEMA-B-1351]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 4, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1351, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

I. Watershed-based studies:

Upper Cumberland Watershed
[Maps available for inspection online at: www.fema.gov/preliminaryfloodhazarddata]
Community | Community map repository address
Bell County, Kentucky, and Incorporated Areas
City of Middlesboro | County Clerk's Office, 121 North 21st Street, Middlesboro, KY 40965.
City of Pineville | City Hall, 300 Virginia Avenue, Pineville, KY 40977.
Unincorporated Areas of Bell County | Bell County Courthouse, 1 Courthouse Square, Pineville, KY 40977.
Harlan County, Kentucky, and Incorporated Areas
City of Benham | City Hall, 230 Main Street, Benham, KY 40807.
City of Cumberland | City Clerk's Office, 402 West Main Street, Cumberland, KY 40823.
City of Evarts | City Office, 101 Harlan Street, Evarts, KY 40828.
City of Harlan | City Clerk's Office, 218 South Main Street, Harlan, KY 40831.
City of Loyall | Mayor's Office, 306 Carter Avenue, Loyall, KY 40855.
City of Lynch | City Office, 6 East Main Street, Lynch, KY 40855.
City of Wallins Creek | City Hall, 3280 Main Street, Wallins Creek, KY 40873.
Unincorporated Areas of Harlan County | Judge Executives Office, 210 East Central Street Suite 111, Harlan, KY 40831.
Knox County, Kentucky, and Incorporated Areas
City of Barbourville | City Government of Barbourville, 196 Daniel Boone Drive, Barbourville, KY 40906.
Unincorporated Areas of Knox County | Knox County PVA Office, 401 Court Square, Suite 101, Barbourville, KY 40906.
Laurel County, Kentucky, and Incorporated Areas
City of London | City Hall, 501 South Main Street, London, KY 40741.
Unincorporated Areas of Laurel County | Laurel County Courthouse, 101 South Main Street, Room 320, London, KY 40741.
Letcher County, Kentucky, and Incorporated Areas
City of Blackey | Public Library, 295 Main Street, Blackey, KY 41804.
City of Fleming-Neon | City Hall, 955 KY Highway 317, Fleming-Neon, KY 41840.
City of Jenkins | City Hall, 853 Lakeside Drive, Jenkins, KY 41537.
City of Whitesburg | City Hall, 38 East Main Street, Whitesburg, KY 41858.
Unincorporated Areas of Letcher County | Letcher County Courthouse, 156 Main Street Suite 107, Whitesburg, KY 41858.
McCreary County, Kentucky, and Incorporated Areas
Unincorporated Areas of McCreary County | McCreary County Courthouse, 1 North Main Street, Whitley City, KY 42653.
Whitley County, Kentucky, and Incorporated Areas
City of Corbin | City Hall, 805 South Main Street, Corbin, KY 40701.
City of Williamsburg | City Hall, 423 Main Street, Williamsburg, KY 40769.
Unincorporated Areas of Whitley County | Whitley County Health Department, 114 North 2nd Street, Williamsburg, KY 40769.

II. Non-watershed-based studies:

Upper Cumberland Watershed
[Maps available for inspection online at: www.fema.gov/preliminaryfloodhazarddata]
Community | Community map repository address
Montgomery County, Alabama, and Incorporated Areas
City of Montgomery | City Hall, 103 North Perry Street, Montgomery, AL 36104.
Town of Pike Road | Town Hall, 9575 Vaughn Road, Pike Road, AL 36064.
Unincorporated Areas of Montgomery County | Montgomery County Courthouse Annex 1, 100 South Lawrence Street, Montgomery, AL 36104.
Mohave County, Arizona, and Incorporated Areas
City of Kingman | City Hall, 310 North 4th Street, Kingman, AZ 86401.
Unincorporated Areas of Mohave County | County Administration Building, 700 West Beale Street, Kingman, AZ 86401.
Yavapai County, Arizona, and Incorporated Areas
Unincorporated Areas of Yavapai County | Yavapai County Flood Control, District Office, 1120 Commerce Drive, Prescott, AZ 86305.
San Bernardino, California, and Incorporated Areas
City of Ontario | City Hall, Engineering Department Public Counter, 303 East B Street, Ontario, CA 91764.
City of Rancho Cucamonga | City Hall, Engineering Department Plaza Level, 10500 Civic Center Drive, Rancho Cucamonga, CA 91730.
Ventura, California, and Incorporated Areas
City of Camarillo | Public Works Department, 601 Carmen Drive, Camarillo, CA 93010.
Unincorporated Areas of Ventura County | Ventura County Hall of Administration, 800 South Victoria Avenue, Ventura, CA 93009.
Martin County, Florida, and Incorporated Areas
City of Stuart | Development Department, 121 Southwest Flagler Avenue, Stuart, FL 34994.
Town of Jupiter Island | Town Hall, 2 Southeast Bridge Road, Hobe Sound, FL 33455.
Town of Ocean Breeze Park | Town Hall, 7 Northeast 3rd Avenue, Jensen Beach, FL 34957.
Town of Sewalls Point | Town Hall, 1 South Sewall's Point Road, Sewall's Point, FL 34996.
Unincorporated Areas of Martin County | Martin County Administration Center, 2401 Southeast Monterey Road, 2nd Floor, Stuart, FL 34996.
Okeechobee County, Florida, and Incorporated Areas
City of Okeechobee | City Hall, Clerk's Office, 55 Southeast 3rd Avenue, Room 100, Okeechobee, FL 34974.
Unincorporated Areas of Okeechobee County | Okeechobee County Planning and Zoning Division, County Annex Building, 499 Northwest 5th Avenue, Okeechobee, FL 34972.
Claiborne County, Tennessee, and Incorporated Areas
Unincorporated Areas of Claiborne County | Claiborne County Courthouse, 1740 Main Street, Tazewell, TN 37879.

(Catalog of Federal Domestic Assistance No. 97.022, “Flood Insurance.”)

Dated: November 20, 2013.
Roy E. Wright,
Deputy Associate Administrator for Mitigation, Department of Homeland Security, Federal Emergency Management Agency.

[FR Doc. 2013-29033 Filed 12-3-13; 8:45 am]

BILLING CODE 9110-12-P